DEPARTMENT OF TRANSPORTATION

Federal Transit Administration

Notice of Intent To Prepare an Environmental Impact Statement and Section 4(f) Evaluation for the I-20 East Transit Initiative Heavy Rail Transit Extension in DeKalb County, Georgia

AGENCY: Federal Transit Administration (FTA), (DOT).

ACTION: Notice of intent to prepare an environmental impact statement (EIS) and section 4(f) evaluation.

SUMMARY: The Federal Transit Administration (FTA) and the Metropolitan Atlanta Rapid Transit Authority (MARTA) intend to prepare an Environmental Impact Statement (EIS) and an evaluation per 49 U.S.C. 303 and 23 CFR part 774 (“Section 4(f)”) for MARTA's I-20 East Heavy Rail Transit (HRT) Extension project, which would extend the existing Blue Line from the Indian Creek MARTA Station to the Mall at Stonecrest in eastern DeKalb County. The EIS and Section 4(f) Evaluation will be prepared in accordance with regulations implementing the National Environmental Policy Act (NEPA), Section 4(f), as well as FTA's regulations and guidance implementing NEPA (40 CFR parts 1500 through 1508 and 23 CFR 771.105).

The extension of the existing MARTA Blue Line HRT was selected as a component of a multimodal Locally Preferred Alternative (LPA) resulting from the I-20 East Transit Initiative Detailed Corridor Analysis (DCA) completed in April 2012. The LPA also includes new Bus Rapid Transit (BRT) service along I-20 between downtown Atlanta and a new station at Wesley Chapel Road, east of I-285 in DeKalb County. The NEPA analysis for the BRT project is being advanced separately in an Environmental Assessment (EA).

The FTA originally published a NOI to perform federal environmental review for the entire I-20 East Transit Initiative LPA on August 28, 2012 (77 FR 52128). Project scoping activities for the I-20 East Transit Initiative LPA occurred in September 2012. In today's issue of the Federal Register, FTA is rescinding the August 28, 2012 NOI and issuing this notice to advise interested agencies and the public regarding updates to the Purpose and Need of the LPA that have occurred since the scoping activities. Specifically, the Purpose and Need for both the HRT Extension project and the BRT project have been revised to reflect their distinct and independent utility. The revised Purpose and Need for the HRT Extension project is presented later in this Notice.

SUPPLEMENTARY INFORMATION:

Description of the Proposed Project and Study Area

The first phase of the I-20 East Transit Initiative was the two year-long DCA. This DCA built upon a number of transit studies previously completed in the corridor and identified and evaluated transit improvements in the I-20 East Corridor from downtown Atlanta to the Mall at Stonecrest in eastern DeKalb County. The result of the DCA was the selection of a multimodal LPA comprised of an extension of the existing Blue heavy rail transit (HRT) line from MARTA's Indian Creek Station to the Mall at Stonecrest in eastern DeKalb County and new BRT service along I-20 between downtown Atlanta and a new station at Wesley Chapel Road, east of I-285 in DeKalb County.

The EIS, which focuses on the HRT Extension, has a study area that extends from the MARTA Indian Creek Station south for 3.5 miles along I-285, then east for approximately 8.5 miles to the Mall at Stonecrest. The study area extends up to one-half mile on each side of the alignment in order to evaluate the direct, indirect, and cumulative impacts associated with the implementation of transit in the corridor.

Purpose and Need

The LPA presented to the public at Public Scoping Meetings on September 10, 11, and 13, 2012 included both the BRT and HRT components of the LPA. The BRT component is a separate project that is being addressed in an Environmental Assessment. The EIS Purpose and Need has been revised to specifically address the HRT Extension project as follows:

The purpose of the I-20 East HRT Extension project is to increase east-west mobility options between the City of Atlanta and Southeast DeKalb County and to improve transit access between residential areas and activity and employment centers both within the corridor and across the region—with minimal impacts to private property, historical resources and neighborhoods, and parklands by:

• Providing reliable and efficient transit service with sufficient capacity to address future travel demand projected in the I-20 corridor through a one-seat ride into downtown Atlanta and other activity centers in the corridor.

• Providing an alternative to automobile travel on congested roadways in the corridor, particularly the most congested areas east of I-285.

• Connecting to the existing MARTA rail network, thereby addressing a gap in the current system and improving regional transit accessibility and access to jobs for those who live and work in South DeKalb County.

• Completing an important link in the region's long term transit vision, Concept 3.

• Encouraging redevelopment and revitalization in key activity centers through investment opportunities around fixed transit stations.

The project is needed to:

• Meet the needs of corridor residents by providing a high capacity transit alternative to the current transportation system in a corridor that does not have sufficient capacity or planned capacity to address future travel demand. Few roadway investments are planned along the I-20 East Corridor between I-285 and the Mall at Stonecrest through 2040.

• Address increasing congestion and unreliable travel times in the corridor by providing an alternative to automobile trips into and out of Atlanta. Transit travel times on the current MARTA and Georgia Regional Transportation Authority (GRTA) Xpress bus systems to destinations east of I-285 are expected to double between 2010 and 2040, with the majority of travel times greater than 80 minutes.

• Improve regional mobility and access to jobs and services for corridor residents, especially the transit-dependent population. The I-20 East corridor has a higher transit-dependent population than the metro Atlanta region and the State of Georgia, with approximately 10% zero-car households.

• Provide a direct link to the existing MARTA rail and bus network for residents of South DeKalb County, closing a critical gap in the existing network for the historically underserved and choice transit riders in the corridor. By offering a connection into the existing MARTA heavy rail system, residents and workers in the area would be provided with a one-seat ride to a direct connection to the City of Atlanta, the City of Decatur, DeKalb County and various regional employment centers. Citizens east of I-285 currently have a constrained number of options to access the MARTA system, requiring travel either by bus or by car, experiencing (and contributing to) congested roadway conditions and unreliable transit travel times due to operations in mixed traffic. This expansion will close a critical gap in the existing network by providing a proximate, direct, and reliable link for the traditionally underserved and choice transit riders in the corridor.

• Implement the region's future transit vision as well as regional and local land use and development plans for future investment in the corridor. Both the Atlanta Regional Commission's (ARC) Plan 2040 financially constrained regional transportation plan and the Concept 3 Transit Vision include the I-20 Corridor as a key link in the future regional transit network. The Regional Development Plan, DeKalb County Comprehensive Transportation Plan, and numerous local plans and studies incorporate fixed guideway transit as a catalyst for redevelopment in the I-20 East corridor.

• Promote reinvestment by providing the transit infrastructure needed to support investment in transit oriented development at key activity centers, such as the Wesley Chapel Road and Mall at Stonecrest. There is significant projected economic benefit for the corridor and the region through transit oriented development and related investment opportunities that will create jobs, revitalize key areas, and contribute to a transit oriented development pattern served directly by the MARTA system.

Study Alternatives

MARTA completed a two year-long DCA that evaluated potential alignments and transit technologies for transit improvements in the I-20 East Corridor. From multiple alignment and transit technology alternatives, an LPA was selected and adopted by the MARTA Board of Directors in April 2012. The LPA included both a BRT and an HRT Extension project. The EIS will evaluate vertical and horizontal alternatives of the HRT portion of the adopted LPA as well as a No-Build alternative. These alternatives are described as follows:

1. No Build Alternative: This alternative reflects the existing transportation system plus any committed MARTA and Georgia Regional Transit Authority (GRTA) local and express bus service in the corridor, as well as all other transportation investments included in the Atlanta Regional Commission's (ARC) long-range transportation plan. ARC is the Metropolitan Planning Organization (MPO) for the Atlanta urbanized area. The I-20 East BRT project is included in the No-Build Alternative because its implementation is expected to precede that of the I-20 East HRT Extension by several years. NEPA requires the consideration of a No Build Alternative as a means of comparing and evaluating the impacts and benefits of the Build Alternative.

2. Build Alternative: The Build Alternative to be evaluated in the EIS is the extension of the existing MARTA east-west HRT line from the Indian Creek Station, south parallel to I-285, then east parallel to I-20 to the Mall at Stonecrest in eastern DeKalb County. The HRT service would include new stations at Covington Highway, Wesley Chapel Road, Panola Road, Lithonia Industrial Blvd., and the Mall at Stonecrest. It is expected that the HRT service would be implemented in two phases. The first phase would extend the existing MARTA east-west HRT line from Indian Creek Station to Wesley Chapel Road. The second phase would extend from Wesley Chapel Road to the Mall at Stonecrest. The HRT alignment would generally be located adjacent to the interstate and would utilize Georgia Department of Transportation (GDOT) right-of-way wherever possible.

The scope of the environmental analysis and procedures shared in the NOI published August 28, 2012 and at the Public Scoping Meetings in September of 2012 remain unchanged.

Yvette G. Taylor,
Regional Administrator, FTA Region IV.

[FR Doc. 2014-26769 Filed 11-12-14; 8:45 am]

BILLING CODE P